DEPARTMENT OF COMMERCE

International Trade Administration

[A-549-502]

Notice of Extension of the Time Limit for Preliminary Results of Antidumping Duty Administrative Review: Certain Welded Carbon Steel Pipes and Tubes from Thailand

AGENCY: Import Administration, International Trade Administration, Department of Commerce.

EFFECTIVE DATE: November 20, 2000.

FOR FURTHER INFORMATION CONTACT: Javier Barrientos or Samantha Denenberg, AD/CVD Enforcement Group III, Office 7, Import Administration, International Trade Administration, U.S. Department of Commerce, 14th Street and Constitution Avenue, N.W., Washington, D.C. 20230; telephone: (202) 482-2243 and (202) 482-1386, respectively.

SUPPLEMENTARY INFORMATION:

The Applicable Statute

Unless otherwise indicated, all citations to the Tariff Act of 1930, as amended (the Act) are to the provisions effective January 1, 1995, the effective date of the amendments made to the Act by the Uruguay Round Agreements Act. In addition, unless otherwise indicated, all citations to the Department of Commerce's (the Department's) regulations are to 19 CFR part 351 (April 1999).

Background

On May 1, 2000, the Department published a notice of initiation of the administrative review of the antidumping duty order on Certain Welded Carbon Steel Pipes and Tubes from Thailand, covering the period March 1, 1999 through February 29, 2000 (65 FR 25303). The preliminary results are currently due no later than December 1, 2000.

Extension of Time Limit for Preliminary Results

Because of the complex issues enumerated in the Memorandum from Barbara E. Tillman to Joseph A. Spetrini, Extension of Time Limit for the Preliminary Results of Administrative Review of Certain Welded Carbon Steel Pipes & Tubes from Thailand, dated November 6, 2000, and on file in the Central Records Unit (CRU) of the Main Commerce Building, Room B-099, we find that it is not practicable to complete this review by the scheduled deadline. Therefore, in accordance with section 751(a)(3)(A) of the Act, the Department is extending the time period for issuing the preliminary results of review by 120 days (i.e., until March 31, 2001).

Dated: November 6, 2000.
Joseph A. Spetrini,
Deputy Assistant Secretary, AD/CVD Enforcement Group III.

[FR Doc. 00-29630 Filed 11-17-00; 8:45 am]

BILLING CODE 3510-DS-P